DEPARTMENT OF COMMERCE

Foreign-Trade Zones Board

[S-165-2014]

Foreign-Trade Zone 57—Charlotte, North Carolina Application for Expansion of Subzone 57C DNP Imagingcomm America Corporation Concord, North Carolina

An application has been submitted to the Foreign-Trade Zones (FTZ) Board by the Charlotte Regional Partnership, Inc., grantee of FTZ 57, requesting the expansion of Subzone 57C, located at the facility of the DNP Imagingcomm America Corporation in Concord, North Carolina. The application was submitted pursuant to the provisions of the Foreign-Trade Zones Act, as amended (19 U.S.C. 81a-81u), and the regulations of the FTZ Board (15 CFR part 400). It was formally docketed on December 10, 2014.

The grantee proposes to expand Subzone 57C to include an additional 12.93 acres (new subzone total acreage = 27.63 acres). The subzone is located at 4541 Enterprise Drive NW., Concord, Cabarrus County, North Carolina. The subzone would be subject to the existing activation limit of FTZ 57. No authorization for production activity has been requested at this time.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is January 26, 2015. Rebuttal comments in response to material submitted during the foregoing period may be submitted during the subsequent 15-day period to February 10, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov at (202) 482-1346.

Dated: December 10, 2014.
Andrew McGilvray,
Executive Secretary.

[FR Doc. 2014-29597 Filed 12-16-14; 8:45 am]

BILLING CODE 3510-DS-P